FEDERAL COMMUNICATIONS COMMISSION

47 CFR Part 73

[MB Docket No. 23-406; RM-11969; DA 24-199; FR ID 207515]

Television Broadcasting Services Greenville, South Carolina

AGENCY: Federal Communications Commission.

ACTION: Final rule.

SUMMARY: On November 27, 2023, the Media Bureau, Video Division (Bureau) issued a Notice of Proposed Rulemaking (NPRM) in response to a petition for rulemaking filed by Carolina Christian Broadcasting, Inc. (Petitioner), the licensee of WGGS-TV (Station or WGGS), channel 2, Greenville, South Carolina (Greenville), requesting the substitution of channel 29 for channel 2 at Greenville in the Table of TV Allotments. For the reasons set forth in the Report and Order referenced below, the Bureau amends FCC regulations to substitute channel 29 for channel 2 at Greenville.

DATES: Effective April 12, 2024.

FOR FURTHER INFORMATION CONTACT: Joyce Bernstein, Media Bureau, at (202) 418-1647 or Joyce.Bernstein@fcc.gov.

SUPPLEMENTARY INFORMATION: The proposed rule was published at 88 FR 84771 on December 6, 2023. The Petitioner filed comments in support of the petition reaffirming its commitment to apply for channel 29. No other comments were filed.

The Bureau believes the public interest would be served by substituting channel 29 for channel 2 at Greenville. Petitioner states that its proposed channel substitution would serve the public interest by resolving reception challenges currently experienced by viewers in the WGGS service area, and substantially improving access to the Station's programming. The Petitioner notes that the Commission has recognized that VHF channels have certain characteristics that pose challenges for their use in providing digital television service, including a large variability in the performance of indoor antennas available to viewers, with most antennas performing very poorly on VHF channels. The Petitioner proposes to operate the Station on channel 29 with a 3-node Distributed Transmission System (DTS) facility, and all viewers within the Station's community of license will continue to be served by the Station. An analysis using the Commission's TVStudy software indicates that the Station's move to channel 29 would result in a loss of service to 946,964 persons, mostly located around the edge of the channel 2 noise limited service contour (NLSC). All but 417 persons of those persons, however, would remain well-served by continuing to receive at least five full power or Class A stations, and those 417 persons would continue to receive service from at least four such stations, a number of persons that the Commission has found to be de minimis.

As proposed, channel 29 can be substituted for channel 2 at Greenville in compliance with the principal community coverage requirements of section 73.625(a) of the rules, at coordinates 34°56′26.4″ N and 82°24′40.4″ W. Although the Petitioner's proposal would result in a loss of programming to a number of viewers on the fringes of the Station's NLSC, all but a de minimis number of viewers will remain well-served and we conclude that the overall benefits of the proposed channel change in resolving reception issues outweighs any possible harm to the public interest.

This is a synopsis of the Commission's Report and Order, MB Docket No. 23-406; RM-11969; DA 24-199, adopted March 4, 2024, and released March 4, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (j), amend the Table of TV Allotments, under South Carolina, by revising the entry for Greenville to read as follows:

§ 73.622 Digital television table of allotments.

* * * * *

(j) * * *

Community | Channel No.
* * * * *
South Carolina
* * * * *
Greenville | *8, 17, 29, 30
* * * * *

[FR Doc. 2024-05307 Filed 3-12-24; 8:45 am]

BILLING CODE 6712-01-P